DEPARTMENT OF THE INTERIOR

Bureau of Land Management

[61510-8451-0000; MTM 80092]

Notice of Proposed Withdrawal Extension and Notification of a Public Meeting; Montana; Correction

AGENCY: Bureau of Land Management, Interior.

ACTION: Notice of Correction.

SUMMARY: This notice corrects the location and starting time of a meeting previously announced in a Federal Register notice published on June 27, 2011 (76 FR 37372).

On page 37373, column 2, lines 7-8 of the notice should read: “held on August 11, 2011, from 6 p.m. to 8 p.m. at the Bureau of Land Management, 920 NE Main Street, Lewistown.”

Cynthia Staszak,
Chief, Branch of Land Resources.

[FR Doc. 2011-17716 Filed 7-13-11; 8:45 am]

BILLING CODE 4310-55-P